ENVIRONMENTAL PROTECTION AGENCY

[ER-FRL-8995-6]

Environmental Impacts Statements; Notice of Availability

Responsible Agency: Office of Federal Activities, General Information (202) 564-1399 or http://www.epa.gov/compliance/nepa/.

Weekly receipt of Environmental Impact Statements

Filed 02/14/2011 through 02/18/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110044, Draft EIS, FHWA, CA, Yerba Buena Island Ramps Improvement Project on Interstate 80 (I-80), Proposals to Replace the Existing Westbound on- and off-ramp, Funding, San Francisco County, CA, Comment Period Ends: 04/11/2011, Contact: Greg Kolle 916-498-5852.

EIS No. 20110045, Final EIS, NRC, ID, Eagle Rock Enrichment Facility, Construct, Operate, and Decommission, Proposed Facility would Enrich Uranium for Use in Commercial Nuclear Fuel for Power Reactors, Bonneville County, ID, Review Period Ends: 03/28/2011, Contact: Stephen Lemont 301-415-5163.

EIS No. 20110046, Draft Supplement, USFS, CA, Salt Timber Harvest and Fuel Hazard Reduction Project, Additional Analysis and Supplemental Information, Proposing Vegetation Management in the Salt Creek Watershed, South Fork Management Unit, Hayfork Ranger District, Shasta-Trinity National Forest, Trinity County, CA, Comment Period Ends: 04/11/2011, Contact: Joshua Wilson 530-226-2422.

EIS No. 20110047, Draft Supplement, USN, CA, Hunters Point (Former) Naval Shipyard Disposal and Reuse, Supplement Information on the 2000 FEIS, Implementation, City of San Francisco, San Francisco County, CA, Comment Period Ends: 04/12/2011, Contact: Ronald Bochenek 619-532-0906.

EIS No. 20110048, Draft EIS, DOE, 00, Disposal of Greater-Than-Class C (GTCC) Low-Level Radioactive Waste and GTCC-Like Waste, Proposed Development, Operation, and Long-Term Management of a Disposal Facility, Comment Period Ends: 06/27/2011, Contact: Arnold Edelman 301-903-7238.

EIS No. 20110049, Draft EIS, USFWS, HI, Palmyra Atoll National Wildlife Refuge Rat Eradication Project, Proposing to Restore and Protect the Native Species and Habitats, Implementation, Northern Line Islands, Honolulu, HI, Comment Period Ends: 04/11/2011, Contact: Ben Harrison 503-231-6177.

EIS No. 20110050, Final EIS, USACE, 00, Missouri River Commercial Dredging, Proposal to Extract Sand and Gravel from the Missouri River, U.S. Corps of Engineers Section 10 and 404 Permits, Kansas City, Central Missouri and Greater St. Louis, Missouri, Review Period Ends: 03/28/2011, Contact: Cody Wheeler 816-389-3739.

EIS No. 20110051, Draft EIS, USN, CA, Marine Corps Air Ground Combat Center Project, Land Acquisition and Airspace Establishment to Support Large-Scale MAGTF Live-Fire and Maneuver Training Facility, San Bernardino County, CA, Comment Period Ends: 04/11/2011, Contact: Chris Proudfoot 760-830-3764.

EIS No. 20110052, Draft EIS, USFS, 00, PROGRAMMATIC—National Forest System Land Management Planning, Proposing a New Rule at 36 CFR Part 219 Guide Development, Revision, and Amendment of Land Management Plans for Unit of the National Forest System, Comment Period Ends: 05/25/2011, Contact: Brenda Halter-Glenn 202-260-9400.

EIS No. 20110053, Final EIS, USACE, 00, PROGRAMMATIC—Ohio River Mainstem System Study, System Investment Plan (SIP) for Maintaining Safe, Environmentally Sustainable and Reliable Navigation on the Ohio River, IL, IN, OH, KY, PA and WV, Review Period Ends: 03/28/2011, Contact: Dr. Hank Jarboe 513-684-6050.

EIS No. 20110054, Revised Draft EIS, FTA, CA, Crenshaw Transit Corridor Project, Updated Information on a New Evaluation of Maintenance Sites, Proposals to Improve Transit Services, Funding, Los Angeles County Metropolitan Transportation Authority (LACMTA), Los Angeles County, CA, Comment Period Ends: 04/11/2011, Contact: Ray Tellis 213-202-3950.

Amended Notices

EIS No. 20100468, Draft EIS, USACE, MS, Mississippi River Gulf Outlet (MRGO) Ecosystem Restoration Study, To Develop a Comprehensive Ecosystem Restoration Plan to Restore the Lake Borgne, Implementation, LA, Comment Period Ends: 03/04/2011, Contact: Tammy Gilmore 504-862-1002. Revision to FR Notice 12/17/2010: Extending Comment Period from 02/14/2011 to 03/04/2011.

Dated: February 22, 2011.
Cliff Rader,
Environmental Protection Specialist, NEPA Compliance Division, Office of Federal Activities.

[FR Doc. 2011-4255 Filed 2-24-11; 8:45 am]

BILLING CODE 6560-50-P